DEPARTMENT OF THE INTERIOR

National Park Service

[NPS-WASO-NAGPRA-14950; PPWOCRADN0-PCU00RP14.R50000]

Notice of Inventory Completion: Texas A&M University, College Station, TX

AGENCY: National Park Service, Interior.

ACTION: Notice.

SUMMARY: Texas A&M University has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Texas A&M University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains and associated funerary objects under the control of Texas A&M University, College Station, TX. The human remains and associated funerary objects were removed from Morris County, Red River County, and Polk County, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Texas A&M University (TAMU) professional staff in 1995, and the remains were determined to be ancestral Caddo. According to records on file at TAMU, the Caddo Nation of Oklahoma consulted with TAMU at that time and stated their intention to request the repatriation of the remains. In 2010, representatives of the Caddo Nation of Oklahoma were invited to consult with TAMU for the purpose of determining the place and manner of the repatriation, but no Caddo Nation of Oklahoma representatives contacted TAMU or visited the remains in response to this invitation.

History and Description of the Remains

In 1987, human remains and associated funerary objects were removed from the Murphy Branch site (41MX5) in Morris County, TX. At the time of excavation, the human remains and associated funerary objects from this site were identified as being from Burial #3 (TAMU-NAGPRA 1). In 1997, the TAMU Anthropology Collections curator noted that the human remains were missing. These remains are still missing. The three associated funerary objects are one Nash Neck banded jar (Vessel E), one flowerpot shaped vessel with barkman-like design (Vessel F), and one large McKinney Plain sherd. Based on collection records describing the human remains, the objects are associated with the late pre-Contact Caddo.

In the summer of 1991, human remains representing, at minimum, 24 individuals were removed from the Arnold Roitsch site (41RR16R) in Red River County, TX, as part of the Texas Archaeological Society field school/Texas Historical Commission. The human remains were determined to be as follows: From Burial #20 (TAMU-NAGPRA 2), 1 adult of indeterminate sex; from Burial #19 (TAMU-NAGPRA 3), 1 adult male, 1 adult of indeterminate sex, and 1 subadult; from Burial #21 (TAMU-NAGPRA 4), 1 subadult of indeterminate sex; from the Terrace Burial (TAMU-NAGPRA 5), 2 adults of indeterminate sex and 1 subadult; from Burial #18 (TAMU-NAGPRA 6), 1 adult male; from Burial #17 (TAMU-NAGPRA 7), 1 adult female; from Burial #16 (TAMU-NAGPRA 8), 1 adult female; from Burial #15 (TAMU-NAGPRA 9), 1 adult male; from Burial #14 (TAMU-NAGPRA 10), 1 subadult; from Burial #13 (TAMU-NAGPRA 11), 2 adult females, 1 adult male, and 1 subadult; from Burial #12 (TAMU-NAGPRA 12), 1 adult female and 1 subadult; from Burial #11A and 11B (TAMU-NAGPRA 13), 2 adult females and 1 subadult; from Burial #10 (TAMU-NAGPRA 14), 1 adult of indeterminate sex; and from Burial #9 (TAMU-NAGPRA 15), 1 adult male. No known individuals were identified. No associated funerary objects are present. Based on the presence of trade beads, diagnostic ceramic sherds, and pipes found elsewhere at the site, these human remains are attributed to the Caddo culture and are estimated to date from 1000 A.D. to 1740 A.D.

In 1985, human remains representing, at minimum, 1 individual were removed from the Crawford site (41PK69) in Polk County, TX. At the time of excavation, the remains were identified as being from an unnumbered burial (TAMU-NAGPRA 16). The human remains were determined to belong to a single adult male. The remains were determined to be prehistoric Caddo based on type artifacts recovered elsewhere at the site. No known individuals were identified. No associated funerary objects are present.

Determinations Made by Texas A&M University

Officials of Texas A&M University have determined that:

• Pursuant to 25 U.S.C. 3001(9), the human remains described in this notice represent the physical remains of 25 individuals of Native American ancestry.

• Pursuant to 25 U.S.C. 3001(3)(A), the 3 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Lineal descendants or representatives of any Indian tribe or Native Hawaiian organization not identified in this notice that wish to request transfer of control of these human remains and associated funerary objects should submit a written request with information in support of the request to Dr. Suzanne L. Eckert, Department of Anthropology, Texas A&M University, College Station, TX 77843-4352, telephone (979) 845-5242, by May 19, 2014. After that date, if no additional requestors have come forward, transfer of control of the human remains and associated funerary objects to the Caddo Nation of Oklahoma may proceed.

Texas A&M University is responsible for notifying the Caddo Nation of Oklahoma that this notice has been published.

Dated: February 3, 2014.
David Tarler,
Acting Manager, National NAGPRA Program.

[FR Doc. 2014-08815 Filed 4-16-14; 8:45 am]

BILLING CODE 4312-50-P